DEPARTMENT OF TRANSPORTATION

Federal Railroad Administration

[Docket Number FRA-2016-0076]

Petition for Waiver of Compliance

In accordance with part 211 of Title 49 Code of Federal Regulations (CFR), this document provides the public notice that by a document dated June 27, 2016, the Southeastern Pennsylvania Transportation Authority (SEPTA) has petitioned the Federal Railroad Administration (FRA) for a waiver of compliance from certain provisions of the Federal railroad safety regulations contained at 49 CFR 238.135(b). FRA assigned the petition Docket Number FRA-2016-0076.

SEPTA is requesting special approval to operate its passenger train exterior side doors and trap doors differently than required by 49 CFR 238.135(b), which requires all such doors must be closed when a train is in motion between stations during specific times of day and type of operating schedule. SEPTA performed a hazard analysis regarding the operation of its trains in this manner and specific mitigations it will undertake to reduce risks.

SEPTA specifically requests special approval for the following:

• Operation of the Silverliner IV or push-pull passenger cars with the exterior side doors or trap doors, or both, in the open position when operating a weekday schedule with trains arriving or departing Suburban Station between the hours of 6:30 a.m. to 9:30 a.m. and 3:30 p.m. to 6:30 p.m.

• Operation of the Silverliner IV or push-pull passenger cars with the exterior side doors or trap doors, or both, in the open position during two designated 3-hour peak periods on holidays. SEPTA will formally declare these peak periods prior to the event and provide train crews with written notification of the same no less than 2 calendar days prior.

• Operation of the Silverliner IV or push-pull passenger cars with the exterior side doors or trap doors, or both, in the open position as “EXTRA” trains when necessitated during emergency exigent circumstances.

• Operation of the Silverliner V cars with the interior trap doors open at all times.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 3, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/privacyNotice for the privacy notice of regulations.gov.

Issued in Washington, DC, on August 15, 2016.
Karl Alexy,
Director, Office of Safety Analysis.

[FR Doc. 2016-19745 Filed 8-17-16; 8:45 am]

BILLING CODE 4910-06-P